DEPARTMENT OF HOMELAND SECURITY

Federal Emergency Management Agency

[Docket ID FEMA-2025-0002; Internal Agency Docket No. FEMA-B-2514]

Changes in Flood Hazard Determinations

AGENCY: Federal Emergency Management Agency, Department of Homeland Security.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The current effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Risk Analysis, Planning & Information Directorate, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster, Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Kristin E. Fontenot,
Assistant Administrator, Risk Analysis, Planning & Information Directorate, Federal Emergency Management Agency, Department of Homeland Security.

State and county | Location and case No. | Chief executive officer of community | Community map repository | Online location of letter of map revision | Date of modification | Community No.
Arkansas:
Benton | City of Bentonville (24-06-2300P). | The Honorable Stephanie Orman, Mayor, City of Bentonville, 305 Southwest A Street, Bentonville, AR 72712. | City Hall, 3200 Southwest Municipal Drive, Bentonville, AR 72712. | https://msc.fema.gov/portal/advanceSearch. | Jun. 30, 2025 | 050012
Benton | City of Rogers (24-06-2300P). | The Honorable Greg Hines, Mayor, City of Rogers, 301 West Chestnut Street, Rogers, AR 72756. | City Hall, 301 West Chestnut Street, Rogers, AR 72756. | https://msc.fema.gov/portal/advanceSearch. | Jun. 30, 2025 | 050013
Benton | Unincorporated areas of Benton County (24-06-2300P). | The Honorable Barry Moehring, Benton County Judge, 215 East Central Avenue, Bentonville, AR 72712. | Benton County Planning Department, 215 East Central Avenue, Bentonville, AR 72712. | https://msc.fema.gov/portal/advanceSearch. | Jun. 30, 2025 | 050419
Pulaski | City of Maumelle (24-06-1837P). | The Honorable Caleb Norris, Mayor, City of Maumelle, 550 Edgewood Drive, Maumelle, AR 72113. | City Hall, 550 Edgewood Drive, Maumelle, AR 72113. | https://msc.fema.gov/portal/advanceSearch. | Jun. 25, 2025 | 050577
Pulaski | Unincorporated areas of Pulaski County (24-06-1837P). | The Honorable Barry Hyde, Pulaski County Judge, 201 South Broadway Street, Suite 400, Little Rock, AR 72201. | Pulaski County Planning and Development Department, 3200 Brown Street, Little Rock, AR 72204. | https://msc.fema.gov/portal/advanceSearch. | Jun. 25, 2025 | 050179
California:
Los Angeles | Unincorporated areas of Los Angeles County (24-09-1197P). | Fesia Davenport, CEO, Los Angeles County, 500 West Temple Street, Room 713, Los Angeles, CA 90012. | Los Angeles County Public Works, Stormwater Engineering, 900 South Fremont Avenue, 2nd Floor, Alhambra, CA 91803. | https://msc.fema.gov/portal/advanceSearch. | Jun. 30, 2025 | 065043
San Diego | City of San Diego (25-09-0103X). | The Honorable Todd Gloria, Mayor, City of San Diego, 202 C Street, 11th Floor, San Diego, CA 92101. | Stormwater Department, 9370 Chesapeake Drive, Suite 100, San Diego, CA 92123. | https://msc.fema.gov/portal/advanceSearch. | Jun. 12, 2025 | 060295
San Diego | Unincorporated areas of San Diego County (24-09-0514P). | Nora Vargas, Chair, San Diego County Board of Supervisors, 1600 Pacific Highway, Room 335, San Diego, CA 92101. | San Diego County Flood Control District, Department of Public Works, 5510 Overland Avenue, Suite 410, San Diego, CA 92123. | https://msc.fema.gov/portal/advanceSearch. | Jun. 16, 2025 | 060284
Santa Clara | City of Morgan Hill (24-09-0336P). | The Honorable Mark Turner, Mayor, City of Morgan Hill, 17575 Peak Avenue, Morgan Hill, CA 95037. | City Clerk's Office, 17575 Peak Avenue, Morgan Hill, CA 95037. | https://msc.fema.gov/portal/advanceSearch. | Jun. 23, 2025 | 060346
Ventura | City of Simi Valley (25-09-0102X). | The Honorable Dee Dee Cavanaugh, Mayor Pro Tem, City of Simi Valley, 2929 Tapo Canyon Road, Simi Valley, CA 93063. | City Hall, 2929 Tapo Canyon Road, Simi Valley, CA 93063. | https://msc.fema.gov/portal/advanceSearch. | Jun. 13, 2025 | 060421
Yolo | City of Winters (25-09-0105X). | Jeremy Craig, Manager, City of Winters, 318 1st Street, Winters, CA 95694. | City Hall, 318 1st Street, Winters, CA 95694. | https://msc.fema.gov/portal/advanceSearch. | Jun. 12, 2025 | 060425
Colorado:
Boulder | Unincorporated areas of Boulder County (24-08-0144P). | Ashley Stolzmann, Chair, Boulder County, Board of County Commissioners, 1325 Pearl Street, Boulder CO 80302. | Boulder County Transportation Department, 2525 13th Street, Suite 203, Boulder, CO 80304. | https://msc.fema.gov/portal/advanceSearch. | Jun. 23, 2025 | 080023
Broomfield | City and County of Broomfield (24-08-0039P). | The Honorable Guyleen Castriotta, Mayor, City and County of Broomfield, 1 DesCombes Drive, Broomfield, CO 80020. | City and County of Broomfield, Engineering Department, 1 DesCombes Drive, Broomfield, CO 80020. | https://msc.fema.gov/portal/advanceSearch. | Jun. 16, 2025 | 085073
Larimer | City of Fort Collins (24-08-0555X). | The Honorable Jeni Arndt, Mayor, City of Fort Collins, P.O. Box 580, Fort Collins, CO 80522. | Stormwater Utilities Department, 700 Wood Street, Fort Collins, CO 80521. | https://msc.fema.gov/portal/advanceSearch. | Jun. 16, 2025 | 080102
Florida:
Bay | City of Mexico Beach (24-04-5008P). | The Honorable Richard Wolff, Mayor, City of Mexico Beach, 201 Paradise Path, Mexico Beach, FL 32456. | City Hall, 201 Paradise Path, Mexico Beach, FL 32456. | https://msc.fema.gov/portal/advanceSearch. | Jun. 9, 2025 | 120010
Collier | City of Marco Island (24-04-6390P). | Michael McNees, Manager, City of Marco Island, 50 Bald Eagle Drive, Marco Island, FL 34145. | Building Services Department, 50 Bald Eagle Drive, Marco Island, FL 34145. | https://msc.fema.gov/portal/advanceSearch. | Jun. 16, 2025 | 120426
Volusia | City of DeLand (24-04-2278P). | Michael Pleus, Manager, City of DeLand, 120 South Florida Avenue, DeLand, FL 32720. | City Hall, 120 South Florida Avenue, DeLand, FL 32720. | https://msc.fema.gov/portal/advanceSearch. | Jun. 30, 2025 | 120307
Volusia | Unincorporated areas of Volusia County (24-04-2278P). | George Recktenwald, Volusia County Manager, 123 West Indiana Avenue, DeLand, FL 32720. | Volusia County Thomas C. Kelly Administration Center, 123 West Indiana Avenue, DeLand, FL 32720. | https://msc.fema.gov/portal/advanceSearch. | Jun. 30, 2025 | 125155
Idaho:
Shoshone | City of Osburn (25-10-0077P). | The Honorable Kip McGillivray, Mayor, City of Osburn, P.O. Box 865, Osburn, ID 83849. | City Clerk`s Office, 921 East Mullan Avenue, Osburn, ID 83849. | https://msc.fema.gov/portal/advanceSearch. | Jun. 23, 2025 | 160116
Shoshone | Unincorporated areas of Shoshone County (25-10-0077P). | Jeff Zimmerman, Chair, Shoshone County, Board of Commissioners, 700 Bank Street, Suite 120, Wallace, ID 83873. | Shoshone County Planning and Zoning Department, 700 Bank Street, Suite 25, Wallace, ID 83873. | https://msc.fema.gov/portal/advanceSearch. | Jun. 23, 2025 | 160114
Illinois:
Kane | Unincorporated areas of Kane County (24-05-1930P). | Corinne Pierog, Chair, Kane County Board, 719 South Batavia Avenue, Building A, Geneva, IL 60134. | Kane County Water Resources Department, 719 South Batavia Avenue, Building A, Geneva, IL 60134. | https://msc.fema.gov/portal/advanceSearch. | Jun. 13, 2025 | 170896
Kane | Village of Pingree Grove (24-05-1930P). | Amber Kubiak, President, Village of Pingree Grove, 555 Reinking Road, Pingree Grove, IL 60140. | Village Hall, 555 Reinking Road, Pingree Grove, IL 60140. | https://msc.fema.gov/portal/advanceSearch. | Jun. 13, 2025 | 171078
Louisiana: St. Martin | Town of Breaux Bridge (24-06-0802P). | The Honorable Ricky Calais, Mayor, Town of Breaux Bridge, 101 Berard Street, Breaux Bridge, LA 70517. | Town Hall, 101 Berard Street, Breaux Bridge, LA 70517. | https://msc.fema.gov/portal/advanceSearch. | Jun. 20, 2025 | 220180
Massachusetts: Essex | City of Gloucester (24-01-0549P). | The Honorable Greg Varga, Mayor, City of Gloucester, 9 Dale Avenue, Gloucester, MA 01930. | City Hall, 3 Pond Road, 2nd Floor, Gloucester, MA 01930. | https://msc.fema.gov/portal/advanceSearch. | Jun. 13, 2025 | 250082
Michigan: Bay | Charter Township of Bangor (25-05-0390P). | Glenn Rowley, Supervisor, Charter Township of Bangor, 180 State Park Drive, Bay City, MI 48706. | Charter Township of Bangor Offices, 180 State Park Drive, Bay City, MI 48706. | https://msc.fema.gov/portal/advanceSearch. | Jun. 25, 2025 | 260019
Mississippi: Lee | City of Tupelo (24-04-1425P). | The Honorable Todd Jordan, Mayor, City of Tupelo, 71 East Troy Street, Tupelo, MS 38804. | City Hall, 71 East Troy Street, Tupelo, MS 38804. | https://msc.fema.gov/portal/advanceSearch. | Jun. 23, 2025 | 280100
North Carolina:
Mecklenburg | City of Charlotte (24-04-4185P). | The Honorable Vi Alexander Lyles, Mayor, City of Charlotte, 600 East 4th Street, Charlotte, NC 28202. | Mecklenburg County Stormwater Services Department, 2145 Suttle Avenue, Charlotte, NC 28208. | https://msc.fema.gov/portal/advanceSearch. | Jun. 18, 2025 | 370159
Wake | Town of Apex (23-04-4722P). | The Honorable Jacques Gilbert, Mayor, Town of Apex, P.O. Box 250, Apex, NC 27502. | Engineering Department, 73 Hunter Street, Apex, NC 27502. | https://msc.fema.gov/portal/advanceSearch. | May 20, 2025 | 370467
Oregon:
Washington | City of Hillsboro (24-10-0025P). | The Honorable Beach Pace, Mayor, City of Hillsboro, 150 East Main Street, Hillsboro, OR 97123. | Community Development Department, 150 East Main Street, Hillsboro, OR 97123. | https://msc.fema.gov/portal/advanceSearch. | Jun. 13, 2025 | 410243
Washington | Unincorporated areas of Washington County (24-10-0025P). | Kathryn Harrington, Chair, Washington County Board of Commissioners, 155 North 1st Avenue, Suite 300, Hillsboro, OR 97124. | Washington County Public Services Building, 155 North 1st Avenue, Suite 350, MS13, Hillsboro, OR 97124. | https://msc.fema.gov/portal/advanceSearch. | Jun. 13, 2025 | 410238
South Carolina:
Greenville | City of Greenville (24-04-1178P). | The Honorable Knox White, Mayor, City of Greenville, P.O. Box 2207, Greenville, SC 29601. | Engineering Department, 204 Halton Road, 4th Floor, Greenville, SC 29607. | https://msc.fema.gov/portal/advanceSearch. | Jun. 25, 2025 | 450091
Greenville | Unincorporated areas of Greenville County (24-04-1178P). | Dan Tripp, Chair, Greenville County Council, 301 University Ridge, Suite 2400, Greenville, SC 29601. | Greenville County Planning and Code Compliance Division, 301 University Ridge, Suite 4100, Greenville, SC 29601. | https://msc.fema.gov/portal/advanceSearch. | Jun. 25, 2025 | 450089
Texas:
Bexar | City of San Antonio (24-06-0080P). | The Honorable Ron Nirenberg, Mayor, City of San Antonio, P.O. Box 839966, San Antonio, TX 78283. | Department of Public Works, Storm Water Division, 1901 South Alamo Street, 2nd Floor, San Antonio, TX 78204. | https://msc.fema.gov/portal/advanceSearch. | May 12, 2025 | 480045
Collin | City of Celina (24-06-1556P). | The Honorable Ryan Tubbs, Mayor, City of Celina, 142 North Ohio Street, Celina, TX 75009. | City Hall, 142 North Ohio Street, Celina, TX 75009. | https://msc.fema.gov/portal/advanceSearch. | Jun. 23, 2025 | 480133
Collin | City of Parker (24-06-0090P). | The Honorable Lee Pettle, Mayor, City of Parker, 5700 East Parker Road, Parker, TX 75002. | Public Works Department, 5700 East Parker Road, Parker, TX 75002. | https://msc.fema.gov/portal/advanceSearch. | May 12, 2025 | 480139
Collin | City of Plano (24-06-0090P). | The Honorable John B. Muns, Mayor, City of Plano, 1520 K Avenue, Plano, TX 75074. | City Hall, 1520 K Avenue, Plano, TX 75074. | https://msc.fema.gov/portal/advanceSearch. | May 12, 2025 | 480140
Collin | City of Plano (24-06-1585P). | The Honorable John B. Muns, Mayor, City of Plano, 1520 K Avenue, Plano, TX 75074. | City Hall, 1520 K Avenue, Plano, TX 75074. | https://msc.fema.gov/portal/advanceSearch. | Jun. 23, 2025 | 480140
Tarrant | City of Fort Worth (24-06-1081P). | The Honorable Mattie Parker, Mayor, City of Fort Worth, 100 Fort Worth Trail, Fort Worth, TX 76102. | Department of Transportation and Public Works, 100 Fort Worth Trail, Fort Worth, TX 76102. | https://msc.fema.gov/portal/advanceSearch. | Jun. 20, 2025 | 480596
Travis | City of Austin (24-06-1389P). | T. C. Broadnax, Manager, City of Austin, P.O. Box 1088, Austin, TX 78767. | Austin Courthouse, 505 Barton Springs Road, Austin, TX 78704. | https://msc.fema.gov/portal/advanceSearch. | Jun. 23, 2025 | 480624
Travis | Unincorporated areas of Travis County (24-06-1389P). | The Honorable Andy Brown, Travis County Judge, P.O. Box 1748, Austin, TX 78767. | Travis County Transportation and Natural Resources, 700 Lavaca Street, 5th Floor, Austin, TX 78701. | https://msc.fema.gov/portal/advanceSearch. | Jun. 23, 2025 | 481026
Waller | City of Katy (25-06-0318P). | The Honorable William H. Thiele, Mayor, City of Katy, P.O. Box 617, Katy, TX 77493. | City Hall, 910 Avenue C, Katy, TX 77493. | https://msc.fema.gov/portal/advanceSearch. | May 27, 2025 | 480301

[FR Doc. 2025-05121 Filed 3-25-25; 8:45 am]

BILLING CODE 9110-12-P